DEPARTMENT OF HOMELAND SECURITY

Coast Guard

33 CFR Part 167

[Docket No. USCG-2010-0785]

Port Access Route Study: The Approaches to San Francisco

AGENCY: Coast Guard, DHS.

ACTION: Notice of public meetings; request for comments.

SUMMARY: The Coast Guard announces a public meeting to receive comments on the study entitled “Port Access Route Study: Off San Francisco” that was published in the Federal Register on Thursday, December 10, 2009. As stated in that document, the Coast Guard is conducting a Port Access Route Study (PARS) to evaluate the continued applicability of and the potential need for modifications to the current vessel routing in the approaches to San Francisco.

DATES: A Public meeting will be held on Wednesday, October 20, 2010 from 6:30 p.m. to 8:30 p.m. to provide an opportunity for oral comments. Written comments and related material may also be submitted to Coast Guard personnel specified at the meetings.

ADDRESSES: The October 20, 2010 public meeting will be held at the Executive Inn and Suites at 1755 Embarcadero, Oakland, California. Visitor parking is available in the lots outside the hotel.

FOR FURTHER INFORMATION CONTACT: If you have questions concerning the meeting or the study, please call or e-mail LTJG Lucas Mancini, Coast Guard; telephone 510-437-3801, e-mail Lucas.W.Mancini@uscg.mil. If you have questions on viewing the docket call Ms. Renee V. Wright, Program Manager, Docket Operations, telephone 202-366-9826.

SUPPLEMENTARY INFORMATION:

Background and Purpose

We published a notice of study in the Federal Register on December 10, 2009 (74 FR 65543), entitled “Port Access Route Study: Off San Francisco” in which we did not state a plan to hold a public meeting. We have decided to hold a meeting in order to give the public and waterway users a chance to comment in person.

In the notice of PARS, we discussed our intent to help reduce the risk of marine casualties and increase the efficiency of vessel traffic in the study region. Our goal is to assess whether the current vessel routing system is effective in its predictability of vessel movements, which may decrease the potential for collisions, oil spills, and other events that could threaten the marine environment.

You may view the notice of PARS in our online docket, in addition to comments submitted thus far by going to http://www.regulations.gov. Once there, insert “USCG-2009-0576” in the “keyword” box and click “search.” If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

We encourage you to participate in this study by submitting comments at the meeting either orally or in writing. If you bring written comments to the meeting, you may submit them to Coast Guard personnel specified at the meeting to receive written comments. These comments will be posted to our online public docket. All comments received will be posted without change to http://www.regulations.gov and will include any personal information you have provided.

Anyone can search the electronic form of comments received into any of our dockets by the name of the individual submitting the comment (or signing the comment, if submitted on behalf of an association, business, labor union, etc.). You may review a Privacy Act notice regarding our public dockets in the January 17, 2008, issue of the Federal Register (73 FR 3316).

Information on Service for Individuals With Disabilities

For information on facilities or services for individuals with disabilities or to request special assistance at the public meeting, contact LTJG Lucas Mancini at the telephone number or e-mail address indicated under the FOR FURTHER INFORMATION CONTACT section of this notice.

Public Meeting

The Coast Guard will hold a public meeting regarding its Port Access Route Study in the Approaches to San Francisco on Wednesday October 20, 2010 from 7 p.m. to 9 p.m. at the Executive Inn and Suites located at 1755 Embarcadero, Oakland California, telephone 510-536-6633. We will provide a written summary of the meeting and additional comments received at the meeting in the docket.

Dated: September 2, 2010.
S.P. Metruck,
Captain, U.S. Coast Guard, Acting Commander, Eleventh Coast Guard District.

[FR Doc. 2010-23176 Filed 9-16-10; 8:45 am]

BILLING CODE 9110-04-P